DEPARTMENT OF LABOR

Employment and Training Administration

[TA-W-71,340]

Bowne of Detroit, Detroit, MI; Notice of Termination of Investigation

Pursuant to Section 221 of the Trade Act of 1974, as amended, an investigation was initiated on June 22, 2009, in response to a worker petition filed on behalf of workers at Bowne of Detroit, 610 West Congress, Detroit, Michigan.

The petitioning group of workers is covered by an earlier petition filed on June 9, 2009 (instituted on June 10, 2009) that is the subject of an ongoing investigation for which a determination has not yet been issued (TA-W-71,137; Bowne, 610 West Congress, Detroit, Michigan). Further investigation in this case would duplicate efforts and serve no purpose; therefore the investigation under this petition has been terminated.

Signed at Washington, DC, this 26th day of June 2009.
Elliott S. Kushner,
Certifying Officer, Division of Trade Adjustment Assistance.

[FR Doc. E9-15742 Filed 7-2-09; 8:45 am]

BILLING CODE 4510-FN-P